NATIONAL SCIENCE FOUNDATION

Notice of Permits Issued Under the Antarctic Conservation Act of 1978

AGENCY: National Science Foundation.

ACTION: Notice of permits issued under the Antarctic Conservation Act of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On April 5, 2005, the National Science Foundation published a notice in the Federal Register of a permit applications received. Permits were issued on May 17, 2005, to:

Tom Yelvington; Permit No. 2006-003.

Natalie Goodall; Permit No. 2006-005.

Tom Yelvington; Permit No. 2006-006.

Tom Yelvington; Permit No. 2006-007.

Tom Yelvington; Permit No. 2006-008.

Nadene G. Kennedy,
Permit Officer

[FR Doc. 05-11388 Filed 6-7-05; 8:45 am]

BILLING CODE 7555-01-M